ENVIRONMENTAL PROTECTION AGENCY

[FRL-7132-9]

Proposed Agreement and Covenant Not To Sue Pursuant to the Comprehensive Environmental Response, Compensation, and Liability Act of 1980, As Amended by the Superfund Amendments and Reauthorization Act of 1986; In Re: Pittsfield Economic Development Authority (“PEDA”), Related to CERCLA Site Known as the GE-Pittsfield/Housatonic River Site, Located in Pittsfield, MA

AGENCY: Environmental Protection Agency.

ACTION: Notice of proposed prospective purchaser agreement; request for public comment.

SUMMARY: In accordance with the Comprehensive Environmental Response Compensation, and Liability Act, as amended (“CERCLA”), 42 U.S.C. 9601, et seq., notice is hereby given of a Prospective Purchaser Agreement and Covenant Not to Sue between the United States, on behalf of the U.S. Environmental Protection Agency (“EPA” or the “Agency”), and the Pittsfield Economic Development Authority (PEDA) (“Purchaser”). The Purchaser plans to acquire 52 acres of the GE-Pittsfield/Housatonic River Site for the purpose of redeveloping for the economic benefit of the City of Pittsfield. Pursuant to a Definitive Economic Development Agreement entered into by PEDA, the City, and the General Electric Company (“GE”), approximately 52 acres of the GE-Pittsfield/Housatonic River Site will be transferred to PEDA after the completion of removal actions pursuant to a CERCLA consent decree entered by the United States District Court in the matter of United States v. General Electric Company, Civil Docket No. 99-30225-MAP. PEDA will be the fee owner of property transferred to it by GE and will be responsible for managing future land uses thereon. Under the Proposed Agreement, the United States grants a Covenant Not to Sue to the Purchaser under provisions of CERCLA, the Resource Conservation and Recovery Act, the Oil Pollution Act, the Clean Water Act, the Toxic Substances Control Act, and the Rivers and Harbors Act, with respect to existing contamination at the Site. In exchange, the Purchaser agrees to perform the following with respect to the property: grant access; abide by the terms of institutional controls; perform post-removal site control work for the response actions undertaken at the Property; and pay the natural resource trustees up to $4 million, consisting of in-kind services and/or a percentage of PEDA's net revenues. In addition, under the Agreement, PEDA will abide by its obligations in the Consent Decree and provide particular covenants not to sue the government.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02114.

DATES: Comments must be submitted on or before February 25, 2002.

ADDRESSES: Comments should be addressed to the Regional Hearing Clerk, U.S. Environmental Protection Agency, Region 1, One Congress Street, Suite 1100, Mailcode RAA, Boston, Massachusetts 02203, and should refer to: In re: Pittsfield Economic Development Authority (PEDA) related to CERCLA Site known as the GE-Pittsfield/Housatonic River Site, U.S. EPA Docket No. CERCLA-01-2002-0007.

FOR FURTHER INFORMATION CONTACT: A copy of the proposed Agreement and Covenant Not to Sue can be obtained from Rose Howell, Paralegal, U.S. Environmental Protection Agency, Region 1, One Congress Street, Mailcode HIO, Boston, Massachusetts 02214, (617) 918-1213.

Dated: January 3, 2002.
Robert W. Varney,
Regional Administrator, New England Region.

[FR Doc. 02-1881 Filed 1-24-02; 8:45 am]

BILLING CODE 6560-50-P